DEPARTMENT OF HOUSING AND URBAN DEVELOPMENT

[Docket No. FR 4819-N-02]

Notice of Proposed Information Collection: Tracking Clearance Examination in Association With the Lead Safe Housing Rule

AGENCY: Office of Healthy Homes and Lead Hazard Control, HUD.

ACTION: Notice.

SUMMARY: The proposed information collection requirement described below will be submitted to the Office of Management and Budget (OMB) for review, as required by the Paperwork Reduction Act. The Department is soliciting public comments on the subject proposal.

DATES: Comments Due Date: August 4, 2003.

ADDRESSES: Interested persons are invited to submit comments regarding this proposal. Comments should refer to the proposal by name and/or OMB Number and should be sent to: Gail N. Ward, Reports Liaison Officer, Department of Housing and Urban Development, 451 7th Street, SW., Room P3206, Washington, DC 20410.

FOR FURTHER INFORMATION CONTACT: Joey Y. Zhou, (202) 755-1785 ext. 153 (this is not a toll-free number), for copies of the proposed forms and other available documents.

SUPPLEMENTARY INFORMATION: The Department is submitting the proposed information collection to OMB for review, as required by the Paperwork Reduction Act of 1995 (44 U.S.C. Chapter 35, amended).

This Notice is soliciting comments from members of the public and affected agencies concerning the proposed collection of information to: (1) Evaluate the accuracy of the agency's estimate of the burden of the proposed collection of information; (2) Evaluate the accuracy of the agency's estimate of the burden of the proposed collection of information; (3) Enhance the quality, utility and clarity of the information to be collected; and (4) Minimize the burden of the collection of information on those who are to spend; including through the use of appropriate automated collection techniques or other forms of information technology, e.g., permitting electronic submission of responses.

Title of Proposal: Tracking Clearance Examinations in Association with the Lead Safe Housing Rule.

OMB Control Number: None.

Need for the Information and Proposed Use: The objective of the proposal survey is to determine the number of units that pass a lead clearance examination as a result of the Lead Safe Housing Rule (Lead-Based Paint Hazards in Federally Owned Housing and Housing Receiving Federal Assistance; 24 CFR 35, subparts B-R). This information will aid the HUD in assessing its implementation of the Rule with the goal of eliminating assisted housing with lead-based paint hazards by 2010.

Agency Form Numbers: None.

Members of Affected Public: Recipients of HUD housing assistance funds.

Total Burden Estimate (First Year):

Task | Number of respondents | Frequency of responses | Total hours of responses
Respondents 17,000 | 1 | 2 | 34,000
Total Estimated Burden Hours |  |  | 34,000

Authority: The Paperwork Reduction Act of 1995, 44 U.S.C. Chapter 35, as amended.

Dated: May 19, 2003.
David E. Jacobs,
Director, Office of Healthy Homes and Lead Hazard Control.

[FR Doc. 03-13745 Filed 6-2-03; 8:45 am]

BILLING CODE 4210-70-M